GENERAL SERVICES ADMINISTRATION

[Notice-PBS-2024-12; Docket No. 2024-0002; Sequence No. 42]

Notice of Availability for the Draft Environmental Impact Statement for the Proposed Modernization of the Bridge of the Americas LPOE in El Paso, Texas

AGENCY: Office of Public Building Service (PBS); General Services Administration, (GSA).

ACTION: Notice of Availability.

SUMMARY: The GSA, in cooperation with the U.S. Customs and Border Protection, the U.S. International Boundary and Water Commission and in accordance with the National Environmental Policy Act (NEPA), announces the availability of the Draft Environmental Impact Statement (EIS) for the proposed modernization of the Bridge of the Americas Land Port of Entry in El Paso, Texas.

The Draft EIS analyzes the potential environmental impacts of GSA's Proposed Action for the GSA to support CBP's mission by bringing the BOTA LPOE operations in line with current CBP land port design standards and operational requirements while addressing existing deficiencies identified with the ongoing port operations.

DATES: September 20, 2024.

Interested parties should submit written comments on or before Monday November 04, 2024, 45 days after the date of publication in the Federal Register to be considered in the formation of the Final EIS. The 45-day comment period will be set by the date the EPA publishes the NOA not the date GSA publishes the NOA.

ADDRESSES: Written comments may be sent to GSA via email at BOTA.NEPAcomments@gsa.gov, or the address in the FOR FURTHER INFORMATION CONTACT section.

FOR FURTHER INFORMATION CONTACT: Further information, including an electronic copy of the DEIS, may be found online at the following website: www.gsa.gov/bota under the Environmental Review section or by contacting Karla R. Carmichael, NEPA Program Manager, Environmental, Fire and Safety & Health Branch, GSA/PBS, Facilities Management and Services Programs Division, Greater Southwest Region 7, 819 Taylor St, Fort Worth, TX, 76102 or via telephone at 817-822-1372.

SUPPLEMENTARY INFORMATION:

Background

The Bridge of the Americas is located in El Paso County Texas along the Rio Grande River, which serves as the boundary between the U.S. and Mexico. The BOTA LPOE connects with the Mexican land port of “Cordova” in Juarez, Chihuahua, Mexico and is one of 4 crossings in the City of El Paso. The port currently processes toll-free inbound and outbound private vehicular, pedestrian, and commercial truck traffic.

The existing LPOE facilities were built in 1967 with minor updates and repairs occurring in the 80's and 90's. The facilities at BOTA are inadequate for processing the amount of inbound and outbound private vehicular, pedestrian, and commercial truck traffic it receives daily leading to significant wait times, congestion and lines of idling cargo trucks. Thus, the purpose and need for the modernization project at the Bridge of the Americas Land Port of Entry.

GSA conducted internal and external scoping meetings to seek input on alternatives and issues associated with implementation of the proposed action through various alternatives. The GSA has narrowed the alternatives that best fulfill the purpose and need to the following two with the addition of the No Action Alternative:

Multi-Level Modernization with High/Low Booths Primarily within Existing Port Boundaries with Minor Land Acquisition. (Viable Action Alternative #A1)

Multi-Level Modernization within Existing Port Boundaries with Minor Land Acquisition Immediately Adjacent to the Port and Elimination of Commercial Cargo Operations. (Viable Action Alternative #4)

The Draft EIS states the purpose and need for the Proposed Action, analyzes the alternatives considered, including the option of No Action and assesses environmental impacts of each alternative, including avoidance, minimization, and potential mitigation measures.

GSA, in cooperation with CBP has selected Viable Action Alternative #4 Multi-Level Modernization within Existing Port Boundaries with Minor Land Acquisition Immediately Adjacent to the Port and Elimination of Commercial Cargo Operations as its Preferred Alternative.

GSA believes this alternative would best fulfill its statutory mission and responsibilities, giving consideration to economic, environmental, technical and other factors and is seeking public and stakeholder comments on this alternative before a final decision is made.

Michael Clardy,
Director, Facilities Management Division (7PM), General Services Administration—Public Building Service, Greater Southwest Region.

[FR Doc. 2024-21068 Filed 9-19-24; 8:45 am]

BILLING CODE 6820-AY-P